DEPARTMENT OF JUSTICE

Antitrust Division

Notice Pursuant to the National Cooperative Research and Production Act of 1993—Open Grid Alliance, Inc.

Notice is hereby given that, on March 31, 2022, pursuant to Section 6(a) of the National Cooperative Research and Production Act of 1993, 15 U.S.C. 4301 et seq. (“the Act”), Open Grid Alliance, Inc. (“OGA”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Arctos Labs Scandinavia AB, Lucea, SWEDEN; Arm, Ltd., Cambridge, UNITED KINGDOM; Amazon Web Services, Inc., Seattle, WA; blocz IO Limited, Cambridge, UNITED KINGDOM; Centech, Montreal, CANADA; Dell Technologies, Round Rock, TX; DriveNets, Ra'anana, ISRAEL; Deutsche Telekom AG, Bonn, GERMANY; Intel Corp, Santa Clara, CA; Invision AI, Inc., Toronto, CANADA; ITRenew, Newark, CA; MITACS, Vancouver, CANADA; Nife Labs Pte Ltd., Singapore, SINGAPORE; OVA Inc., Quebec, CANADA; Vapor IO, Austin, TX; and VMware, Inc., Palo Alto, CA. The general area of OGA's planned activity is to develop “open grid” multi-cloud edge architectures and promote market adoption of such architectures, and undertake such further activities as may from time to time be appropriate to further such purposes and achieve such goals. Membership in OGA remains open and intends to file additional written notifications disclosing all changes in membership.

Suzanne Morris,
Chief, Premerger and Division Statistics, Antitrust Division.

[FR Doc. 2022-10215 Filed 5-11-22; 8:45 am]

BILLING CODE P